DEPARTMENT OF HEALTH AND HUMAN SERVICES

Administration for Children and Families

Office of Planning, Research and Evaluation; Grant to Montana Child Care Resource and Referral Network

AGENCY: Office of Planning, Research and Evaluation, ACF, DHHS.

ACTION: Award Announcement.

SUMMARY: Notice is hereby given that a noncompetitive grant award is being made to Montana Child Care Resource and Referral Network to develop a revolving fund program that will offer low-interest loans to child care businesses.

As a Congressional set-aside, this 17-month project is being funded noncompetitively. This project has the potential for creating innovative collaborative mechanisms at the local level for building a quality child care system. The cost of this 17-month project is $200,000.

FOR FURTHER INFORMATION CONTACT: K.A. Jagannathan, Administration for Children and Families, Office of Planning, Research and Evaluation, 370 L'Enfant Promenade, SW., Washington, DC 20447, telephone: 202-205-4829.

Dated: May 20, 2002.
Howard Rolston,
Director, Office of Planning, Research and Evaluation.

[FR Doc. 02-13628 Filed 5-30-02; 8:45 am]

BILLING CODE 4184-01-M